DEPARTMENT OF THE INTERIOR

Bureau of Land Management

[LLWO200000.L11100000. PH0000.LXSGPL000000. 18X. HAG 19-0014]

Notice of Availability of the Oregon Proposed Resource Management Plan Amendment and Final Environmental Impact Statement

AGENCY: Bureau of Land Management, Interior.

ACTION: Notice of availability.

SUMMARY: In accordance with the National Environmental Policy Act (NEPA) of 1969, as amended, and the Federal Land Policy and Management Act (FLPMA) of 1976, as amended, the Bureau of Land Management (BLM) has prepared the Oregon Proposed Resource Management Plan (RMP) Amendment and Final Environmental Impact Statement (EIS) for Greater Sage-Grouse Conservation for the Oregon Greater Sage-Grouse Sub-Region and, by this notice, is announcing its availability.

DATES: The BLM planning regulations state that any person who meets the conditions as described in the regulations may protest the BLM's Proposed RMP Amendment/Final EIS. A person who meets the conditions outlined in 43 CFR 1610.5-2 and wishes to file a protest must do so within 30 days of the date that the Environmental Protection Agency publishes its Notice of Availability in the Federal Register. A protest regarding the Proposed RMP Amendment announced with this notice must be filed by January 9, 2019.

ADDRESSES: The Proposed RMP Amendment/Final EIS is available on the BLM ePlanning project website at https://goo.gl/4CNtH8. Click the Documents and Report link on the left side of the screen to find the electronic version of these materials. Hard copies of the Proposed RMP Amendment/Final EIS are also available for public inspection at the Burns, Lakeview, and Vale BLM District Offices.

All protests must be in writing (43 CFR 1610.5-2(a)(1)) and filed with the BLM Director, either as a hard copy or electronically via the BLM's ePlanning project website listed previously. To submit a protest electronically, go to the ePlanning project website and follow the protest instructions highlighted at the top of the home page.

If submitting a protest in hard copy, it must be mailed to one of the following addresses:

U.S. Postal Service Mail: BLM Director (210), Attention: Protest Coordinator, WO-210, P.O Box 71383, Washington, DC 20024-1383

Overnight Delivery: BLM Director (210), Attention: Protest Coordinator, WO-210, 20 M Street SE, Room 2134LM, Washington, DC 20003

FOR FURTHER INFORMATION CONTACT: Jim Regan-Vienop, Planning and Environmental Coordinator, at (503) 808-6062; address, 1220 SW 3rd Ave. Suite 1305, Portland, OR 97204; email, jreganvienop@blm.gov. Persons who use a telecommunications device for the deaf (TDD) may call the Federal Relay Service (FRS) at 1-800-877-8339. The FRS is available 24 hours a day, 7 days a week, to leave a message or question with Mr. Regan-Vienop. You will receive a reply during normal business hours.

SUPPLEMENTARY INFORMATION: The BLM prepared the Oregon Greater SageGrouse Proposed RMP Amendment/Final EIS to enhance cooperation with States by improving alignment with State management plans and strategies for Greater Sage-Grouse, while continuing to conserve, enhance, and restore Greater Sage-Grouse and its habitat. The Proposed RMP Amendment/Final EIS also addresses a legal vulnerability, which was exposed when a Federal District Court in Nevada determined that the BLM had violated the NEPA when it finalized the 2015 plans.

The BLM developed the proposed land use plan amendment in collaboration with Oregon Governor Kate Brown, State wildlife managers, and other concerned organizations and individuals, largely through the Western Governors Association's Sage-Grouse Task Force. Using its discretion and authority under the FLPMA, the BLM proposes amending land use plans that address Greater Sage-Grouse management to improve alignment with State of Oregon plans and management strategies, in accordance with the BLM's multiple use and sustained yield mission. This Proposed RMP Amendment/Final EIS is one of six separate planning efforts that are being undertaken in response to the Secretary's Order (SO) 3353 (Greater Sage-grouse Conservation and Cooperation with Western States) and in accordance with SO 3349 (American Energy Independence). The proposed plans refine the previous management plan adopted in 2015 and aims to strike a regulatory balance and build greater trust among neighboring interests in Western communities. The Proposed RMP Amendment/Final EIS proposes to amend the RMPs for field offices on BLM-administered lands within Oregon. The current management decisions for resources are described in the following RMPs:

• Andrews (2005)

• Baker (1989)

• Brothers/La Pine (1989)

• Lakeview (2003)

• Southeastern Oregon (2002)

• Steens (2005)

• Three Rivers (1992)

• Upper Deschutes (2005)

The planning area includes approximately 60,649 acres of lands administered by the BLM in three Oregon counties: Harney, Lake, and Malheur. Within the decision area, the BLM administers approximately 21,959 acres of public lands, all of which is Greater Sage-Grouse habitat. Surface management decisions made as a result of this Proposed RMP Amendment/Final EIS will apply only to lands administered by the BLM in the decision area.

The formal public scoping process for the RMP Amendment/EIS began on October 11, 2017, with publication of a Notice of Intent in the Federal Register (82 FR 47248), and ended on December 1, 2017. The BLM held one public scoping meeting in Burns, Oregon on November 7, 2017.

The Oregon Draft RMP Amendment/Draft EIS focused on the availability or unavailability of livestock grazing in 13 key Research Natural Areas and mitigation. Research Natural Areas are a subset type of Areas of Critical Environmental Concern. The Draft RMP Amendment/Draft EIS evaluated two alternatives in detail, including the No Action Alternative (Alternative A) and one action alternative (Alternative B, Management Alignment Alternative). Comments on the Draft RMP Amendment/Draft EIS received from the public and internal BLM review were considered and incorporated as appropriate into the proposed RMP Amendment/Final EIS. Alternative A would retain the current management goals, objectives, and direction specified in the current RMPs, as amended, for each field office. Alternative B was identified as the BLM's preferred alternative in the Draft RMP Amendment/Draft EIS for the purposes of public comment and review. Identification of this alternative, however, does not represent final agency direction.

Instructions for filing a protest with the Director of the BLM regarding the Proposed RMPA/Final EIS may be found online at https://www.blm.gov/programs/planning-and-nepa/public-participation/filing-a-plan-protest and at 43 CFR 1610.5-2. All protests must be in writing and mailed to the appropriate address, as set forth in the ADDRESSES section above or submitted electronically through the BLM ePlanning project website as described above. Protests submitted electronically by any means other than the ePlanning project website protest section will be invalid unless a protest is also submitted in hard copy. Protests submitted by fax will also be invalid unless also submitted either through ePlanning project website protest section or in hard copy.

Before including your address, phone number, email address, or other personally identifiable information in your comment, you should be aware that your entire comment—including your personally identifiable information—may be made publicly available at any time. While you can ask the BLM in your comment to withhold your personally identifiable information from public review, we cannot guarantee that we will be able to do so.

Authority: 40 CFR 1506.6, 40 CFR 1506.10, 43 CFR 1610.2, 43 CFR 1610.5

Christopher J. McAlear,
Acting State Director, Oregon/Washington, Bureau of Land Management.

[FR Doc. 2018-26701 Filed 12-7-18; 8:45 am]

BILLING CODE 4310-33-P